DEPARTMENT OF ENERGY

10 CFR Part 430

[Docket No. EERE-2016-BT-STD-0022]

RIN 1904-AD69

Energy Conservation Program: Energy Conservation Standards for Uninterruptible Power Supplies; Correction

AGENCY: Office of Energy Efficiency and Renewable Energy, Department of Energy.

ACTION: Notice of proposed rulemaking (NOPR); correction.

SUMMARY: The U.S. Department of Energy (DOE) published a document in the Federal Register on August 5, 2016, concerning a notice of proposed rulemaking and announcement of public meeting regarding energy conservation standards for uninterruptible power supplies. 81 FR 52196. The NOPR provided that the public meeting would be held on September 9, 2016. However, due to a scheduling conflict amongst stakeholders, DOE is changing the date of the public meeting to Friday, September 16, 2016, beginning at 9:30 a.m. All other dates, including the date that the comment period closes, remain unchanged.

DATES: This correction is effective August 15, 2016.

FOR FURTHER INFORMATION CONTACT: Mr. Jeremy Dommu, U.S. Department of Energy, Building Technologies Program, EE-5B, 1000 Independence Avenue SW., Washington, DC 20585-0121, (202) 586-9870. Email: battery_chargers_and_external_power_supplies@ee.doe.gov.

Correction

In the Federal Register published on August 5, 2016, (81 FR 52196), in FR Doc. 2016-18446, the following correction should be made:

On page 52196, under the DATES section, Meeting, is corrected to read:

Meeting: DOE will hold a public meeting on Friday, September 16, 2016, from 9:30 a.m. to 2:00 p.m., in Washington, DC. The meeting will also be broadcast as a webinar. See section VII, “Public Participation,” for webinar registration information, participant instructions, and information about the capabilities available to webinar participants.

Issued in Washington, DC, on August 5, 2016.
Kathleen B. Hogan,
Deputy Assistant Secretary for Energy Efficiency, Energy Efficiency and Renewable Energy.

[FR Doc. 2016-19102 Filed 8-12-16; 8:45 am]

BILLING CODE 6450-01-P